ENVIRONMENTAL PROTECTION AGENCY

[EPA-HQ-OW-2011-0442; FRL-9992-35-OMS]

Information Collection Request Submitted to OMB for Review and Approval; Comment Request; Microbial Rules (Renewal)

AGENCY: Environmental Protection Agency (EPA).

ACTION: Notice.

SUMMARY: The Environmental Protection Agency (EPA) has submitted an information collection request (ICR) for the Microbial Rules Renewal Information Collection Request (EPA ICR Number 1895.10, OMB Control Number 2040-0205) to the Office of Management and Budget (OMB) for review and approval in accordance with the Paperwork Reduction Act. This is a proposed extension of the ICR, which is currently approved through April 30, 2019. Public comments were previously requested via the Federal Register on September 11, 2018, during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 29, 2019.

ADDRESSES: Submit your comments, referencing Docket ID Number EPA-HQ-OW-2011-0442, to (1) EPA online using www.regulations.gov (our preferred method), by email to OW-Docket@epa.gov, or by mail to: EPA Docket Center, Environmental Protection Agency, Mail Code 28221T, 1200 Pennsylvania Ave., NW, Washington, DC 20460, and (2) OMB via email to oira_submission@omb.eop.gov. Address comments to OMB Desk Officer for EPA.

The EPA's policy is that all comments received will be included in the public docket without change including any personal information provided, unless the comment includes profanity, threats, information claimed to be Confidential Business Information (CBI), or other information whose disclosure is restricted by statute.

FOR FURTHER INFORMATION CONTACT: Kevin Roland, Drinking Water Protection Division, Office of Ground Water and Drinking Water, (4606M), Environmental Protection Agency, 1200 Pennsylvania Ave. NW, Washington, DC 20460; telephone number: 202-564-4588: fax number: 202-564-3755; email address: roland.kevin@epa.gov.

SUPPLEMENTARY INFORMATION: Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about the EPA's public docket, visit http://www.epa.gov/dockets.

Abstract: The Microbial Rules Renewal ICR examines public water system and primacy agency burden and costs for recordkeeping and reporting requirements in support of the microbial drinking water regulations. These recordkeeping and reporting requirements are mandatory for compliance with 40 CFR parts 141 and 142. The ICR includes the following microbial regulations: The Surface Water Treatment Rule (SWTR), the Total Coliform Rule (TCR), the Revised Total Coliform Rule (RTCR), the Interim Enhanced Surface Water Treatment Rule (IESWTR), the Filter Backwash Recycling Rule (FBRR), the Long Term 1 Enhanced Surface Water Treatment Rule (LT1ESWTR), the Long Term 2 Enhanced Surface Water Treatment Rule (LT2ESWTR), the Ground Water Rule (GWR), and the Aircraft Drinking Water Rule (ADWR). Future microbial-related rulemakings will be added to this consolidated ICR after the regulations are promulgated and the initial, rule-specific ICRs are due to expire.

Form Numbers: None.

Respondents/affected entities: Public water systems and primacy agencies.

Respondent's obligation to respond: Mandatory for compliance with 40 CFR parts 141 and 142.

Estimated number of respondents: 146,808 (total).

Frequency of response: Varies by requirement (i.e., on occasion, monthly, quarterly, semi-annually, and annually).

Total estimated burden: 18,127,581 hours (per year). Burden is defined at 5 CFR 1320.03(b).

Total estimated cost: $972,102,000 (per year), includes $228,972,000 annualized capital or operation & maintenance costs.

Changes in the Estimates: There is an increase of 3,443,983 hours in the total estimated respondent burden compared with the ICR currently approved by OMB. This is due to full implementation of the Revised Total Coliform Rule, as well as increased state burden associated with recordkeeping, compliance tracking, and significant deficiency and corrective action reporting for sanitary surveys at large surface water systems.

Courtney Kerwin,
Director, Regulatory Support Division.

[FR Doc. 2019-08603 Filed 4-26-19; 8:45 am]

BILLING CODE 6560-50-P